DEPARTMENT OF AGRICULTURE

Economic Research Service

Intent To Seek Approval to Collect Information

AGENCY: Economic Research Service, USDA.

ACTION: Notice and request for comments.

SUMMARY: In accordance with the Paperwork Reduction Act of 1995 and Office of Management and Budget (OMB) implementing regulations, this notice announces the Economic Research Service's (ERS) intention to request approval for a new information collection on the declining participation in the Food Stamp Program (FSP) and the role of policies and local administrative practices in the FSP or in related programs, such as Temporary Assistance to Needy Families (TANF), in affecting participation. This information will contribute to a better understanding of the reasons behind the large declines in food stamp participation since passage of the Personal Responsibility and Work Opportunity Reconciliation Act of 1996.

DATES: Comments on this notice must be received by July 10, 2000 to be assured of consideration.

ADDRESSES: Address all comments concerning this notice to Peggy J. Cook, Food Assistance and Rural Economy Branch, Food and Rural Economics Division, Economic Research Service, U.S. Department of Agriculture, 1800 M. Street, NW, Room S-2078, Washington, DC 20036-5831. For further information contact: Peggy J. Cook, 202-694-5419.

SUPPLEMENTARY INFORMATION: Title: Paperwork Reduction Act Submission (OMB-83-I).

OMB Number: Not yet assigned.

Expiration Date: N/A.

Type of Request: New collection of information.

Abstract: ERS has the responsibility to provide social and economic intelligence on consumer, food marketing, and rural issues, including: domestic food assistance programs; low-income assistance programs; food security status of the poor; food consumption determinants and trends; consumer demand for food quality, safety, and nutrition; food market competition and coordination; and food safety regulations.

The Food and Nutrition Service (FNS) administers the nutrition assistance programs of the U.S. Department of Agriculture (USDA). The Food Stamp Program (FSP) is the cornerstone of the Nation's nutrition safety net for low-income Americans. The program's intent is to eliminate hunger and enable eligible low-income persons to obtain a more nutritionally adequate diet by providing food stamp coupons (or other forms of payment) redeemable at many retail food stores. Benefits provided under the FSP come solely from Federal dollars, but the program is administered jointly by Federal, State, and local governments who also share the costs of program administration. The program is in operation in the 50 States, the District of Columbia, Guam and the U.S. Virgin Islands. In 1998, the program distributed more than $16.6 billion to 19.8 million people living in 7.8 million households.

USDA is concerned about the declines in FSP participation that have occurred since 1994 and whether or not the FSP is reaching all those in need. National food stamp rolls declined by one-third between 1994, when 28.8 million persons received food stamps in an average month, and 1999, when an average of 18.8 persons received benefits each month. According to some analysts, factors like the strong economy, changes in the size and composition of the potential eligibility pool, and Federal changes in the food stamp eligibility rules legislated under the Personal Responsibility and Work Opportunity Reconciliation Act of 1996 (PRWORA) do not fully explain the decline. Little is known about the possible influences of other program factors on FSP participation, in particular, the effects of post-PRWORA changes on how States and local offices administer and operate the FSP in respect to other programs, especially the TANF program. Information also is lacking about the extent to which the levels of awareness and motivations of potentially eligible households affect their decisions to seek and to continue food stamp participation. The data collected in this study are designed to provide information about the role of policies and local administrative practices in the FSP and in related programs in affecting participation.

A sample of FSP caseworker supervisors and caseworkers will be asked questions to identify specific policies and practices in local FSP administration that may affect eligible households' access to and participation in the FSP. Questions will concern policies and practices affecting: contacting the FSP office; filing the FSP application and completing the process; ongoing requirements for FSP recipients; and FSP/TANF benefit reductions or TANF termination. Respondents also will be asked questions concerning their perspectives on post-PRWORA changes in policies and practices. A sample of FSP applicants will be asked questions concerning: trigger events that led to their food stamp application; their understanding of the application process and requirements; expected benefits and costs; and household characteristics and circumstances. A sample of presumptively FSP-eligible households who are not participating in the Program will be asked questions concerning: reasons for not applying to the FSP, perceived eligibility; previous experience with FSP, TANF, and Medicaid programs; perceived costs of participation; and household characteristics and circumstances.

The sampling design for the study is a two-stage national probability sample of new and recertifying food stamps applicants. The first stage of the sampling is the selection of local sites. The study will be conducted in a nationally representative sample of 120 local food stamp offices. The sample will include at least one office in nearly all of the forty-eight contiguous states and the District of Columbia, yet still use a probabilistic sampling approach that yields good statistical precision in overall estimates. The second stage of the sampling involves selecting, within each of the 120 sampled local offices, a representative sample of new and recertifying food stamp applicants. Within each of the sampled local offices, food stamp caseworker supervisors and food stamp caseworkers will be sampled. In addition, a random-digit-dial telephone survey also will be conducted with a sample of presumptively FSP-eligible households, living in the areas served by the 120 sampled local food stamp offices, who are not participating in the FSP.

ERS, working with Abt Associates and Health Systems Research, will conduct the telephone surveys of FSP supervisors and caseworkers, FSP applicant households, and FSP-eligible nonparticipating households. FSP applicant households without telephones will be interviewed in-person. The household telephone interviews will be conducted using Computer-Assisted-Telephone Interviewing (CATI). Responses are voluntary and confidential. To minimize the burden on applicant households, a substantial portion of needed data will be collected by abstraction from local offices' case file records. Survey data will be used with other data for statistical purposes and reported only in aggregate or statistical form.

No existing data sources, including FNS administrative data, can provide all the information needed to complete the Study of Program Access and Declining Food Stamp Participation. These data and the research they will support are vital to the USDA's ability to understand reasons for recent declines in FSP participation.

Estimate of Burden: Public burden for this data collection is estimated, on average, as 60 minutes for caseworker supervisors and caseworkers; 30 minutes for food stamp applicants; 5 minutes for screening households to determine presumptive FSP eligibility; and 30 minutes for FSP-eligible nonparticipants. The estimates include time for listening to instructions, gathering data needed, and responding to questionnaire items.

Respondents: FSP caseworker supervisors, FSP caseworkers, FSP applicants, households with residential telephone numbers, and presumptively FSP-eligible households.

Estimated Number of Respondents: 240 FSP caseworker supervisors, 480 FSP caseworkers, 1,425 FSP applicants, 33,333 households with residential telephone numbers, and 1800 presumptively FSP-eligible households.

Estimated Total Annual Burden on Respondents: 5111 hours.

Copies of the information to be collected can be obtained from Peggy J. Cook, Food Assistance and Rural Economy Branch, Food and Rural Economics Division, Economic Research Service, U.S. Department of Agriculture, 1800 M. Street, NW, Room S-2078, Washington, DC 20036-5831, 202-694-5419.

Comments

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of collection of information on those who are to respond, including through the use of appropriate automated, electronic, mechanical, or other technological collection techniques. Comments should be sent to the address stated in the preamble. All responses to this notice will be summarized and included in the request for OMB approval. All comments will become a matter of public record.

Signed at Washington, D.C., this 28th day of April, 2000.
James Blaylock,
Associate Director, Food and Rural Economics Division.

[FR Doc. 00-11203 Filed 5-4-00; 8:45 am]

BILLING CODE 3410-18-M